DEPARTMENT OF HEALTH AND HUMAN SERVICES

Health Resources and Services Administration

Advisory Commission on Childhood Vaccines; Notice of Meeting

AGENCY: Health Resources and Services Administration, HHS.

ACTION: Notice; amendment.

SUMMARY: The Health Resources and Services Administration published a notice in the Federal Register of November 22, 2005 (70 FR 70623) announcing an Advisory Commission on Childhood Vaccines meeting on December 12, 2005. The document announced that the public can join the meeting by attending in person or by audio conference call. The meeting will now be held by audio conference call only. This document amends the notice by changing the place of the meeting.

FOR FURTHER INFORMATION CONTACT: Ms. Cheryl Lee at 301-443-2124 or e-mail: clee@hrsa.gov.

Correction

In the Federal Register of November 22, 2005, in FR Doc. 05-23042, on page 70623, 3rd paragraph, change to read:

The meeting will be an Audio Conference Call, and to join the meeting, you may call 1-800-369-6048, and provide the password: ACCV.

Dated: December 1, 2005.
Tina M. Cheatham,
Director, Division of Policy Review and Coordination.

[FR Doc. E5-6972 Filed 12-6-05; 8:45 am]

BILLING CODE 4165-15-P